NATIONAL CREDIT UNION ADMINISTRATION

Notice of Meeting

Time and Date: 10 a.m., Thursday, June 26, 2003.

Place: Board Room, 7th Floor, Room 7047, 1775 Duke Street, Alexandria, VA 22314-3428.

Status: Open.

Matters to be Considered: 1. Proposed Rule: Section 701.22 of NCUA's Rules and Regulations, Loan Participations.

2. Proposed Rule: Part 745 of NCUA's Rules and Regulations, Share Insurance.

3. Notice and Request for Comment as Required by the Economic Growth and Regulatory Paperwork Reduction Act of 1996 (EGRPRA).

FOR FURTHER INFORMATION CONTACT: Becky Baker, Secretary of the Board, Telephone: 703-518-6304.

Becky Baker,
Secretary of the Board.

[FR Doc. 03-15932 Filed 6-19-03; 2:14 pm]

BILLING CODE 7535-01-M